DEPARTMENT OF TRANSPORTATION

Federal Aviation Administration

14 CFR Part 97

[Docket No. 30779; Amdt. No. 3422]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 4, 2011. The compliance date for each SIAP, associated Takeoff Minimums, and ODP is specified in the amendatory provisions.

The incorporation by reference of certain publications listed in the regulations is approved by the Director of the Federal Register as of May 4, 2011.

ADDRESSES: Availability of matters incorporated by reference in the amendment is as follows:

For Examination

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866;(2) is not a “significant rule ” under DOT Regulatory Policies and Procedures (44 FR 11034; February 26,1979) ; and (3)does not warrant preparation of a regulatory evaluation as the anticipated impact is so minimal. For the same reason, the FAA certifies that this amendment will not have a significant economic impact on a substantial number of small entities under the criteria of the Regulatory Flexibility Act.

List of Subjects in 14 CFR Part 97

Air traffic control, airports, Incorporation by reference, and Navigation (Air).

Issued in Washington, DC, on April 15, 2011.
Ray Towles,
Deputy Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 5 MAY 2011

Greer, SC, Greenville-Spartanburg Intl, ILS OR LOC RWY 22, Amdt 5

Greer, SC, Greenville-Spartanburg Intl, ILS OR LOC/DME RWY 4, ILS RWY 4 (SA CAT I), ILS RWY 4 (CAT II), ILS RWY 4 (CAT III), Amdt 23

Greer, SC, Greenville-Spartanburg Intl, RADAR 1, Amdt 7

Greer, SC, Greenville-Spartanburg Intl, RNAV (GPS) RWY 4, Amdt 2

Effective 2 JUN 2011

Hartford, CT, Hartford-Brainard, LDA RWY 2, Amdt 1G

Hartford, CT, Hartford-Brainard, VOR OR GPS-A, Amdt 9C

Warsaw, IN, Warsaw Muni, RNAV (GPS) RWY 27, Orig-A

Greenville, MI, Greenville Muni, Takeoff Minimums and Obstacle DP, Amdt 2A

Fulton, NY, Oswego County, ILS OR LOC RWY 33, Amdt 1

Fulton, NY, Oswego County, RNAV (GPS) RWY 15, Orig

Fulton, NY, Oswego County, RNAV (GPS) RWY 33, Orig

Westerly, RI, Westerly State, Takeoff Minimums and Obstacle DP, Amdt 3

Effective 30 JUN 2011

Anchorage, AK, Merill Field, RNAV (GPS)-A, Amdt 1

Anchorage, AK, Merill Field, Takeoff Minimums and Obstacle DP, Amdt 1

Big Lake, AK, Big Lake, RNAV (GPS) RWY 7, Amdt 1

Big Lake, AK, Big Lake, RNAV (GPS) RWY 25, Amdt 1

Big Lake, AK, Big Lake, Takeoff Minimums and Obstacle DP, Amdt 2

Big Lake, AK, Big Lake, VOR RWY 7, Amdt 7

Galena, AK, Edward G. Pitka Sr, VOR/DME RWY 7, Amdt 7B

Galena, AK, Edward G. Pitka Sr, VOR/DME RWY 25, Amdt 10B

Kenai, AK, Kenai Muni, ILS OR LOC RWY 19R, Amdt 4

Kenai, AK, Kenai Muni, RNAV (GPS) RWY 1L, Amdt 2

Kenai, AK, Kenai Muni, RNAV (GPS) RWY 19R, Amdt 2

Kenai, AK, Kenai Muni, VOR RWY 19R, Amdt 19

Kenai, AK, Kenai Muni, VOR/DME RWY 1L, Amdt 8

Wasilla, AK, Wasilla, Takeoff Minimums and Obstacle DP, Amdt 1

Demopolis, AL, Demopolis Muni, NDB RWY 4, Amdt 1, CANCELLED

Fayette, AL, Richard Arthur Field, NDB RWY 18, Amdt 1, CANCELLED

Camden, AR, Harrell Field, Takeoff Minimums and Obstacle DP, Orig

Phoenix, AZ, Phoenix Sky Harbor Intl, ILS OR LOC/DME RWY 7L, Amdt 11

Firebaugh, CA, Firebaugh, RNAV (GPS)-B, Orig

Firebaugh, CA, Firebaugh, VOR/DME-A, Amdt 3

Riverside/Rubidoux, CA, Flabob, Takeoff Minimums and Obstacle DP, Orig

Cornelia, GA, Habersham County, Takeoff Minimums and Obstacle DP, Amdt 4

Lawrenceville, GA, Gwinnett County-Briscoe Field, ILS OR LOC RWY 25, Amdt 2

Lawrenceville, GA, Gwinnett County-Briscoe Field, RNAV (GPS) RWY 7, Orig

Lawrenceville, GA, Gwinnett County-Briscoe Field, RNAV (GPS) RWY 25, Orig

Swainsboro, GA, Emanuel County, ILS OR LOC/DME RWY 13, Orig

Swainsboro, GA, Emanuel County, LOC/NDB RWY 13, Amdt 1, CANCELLED

Swainsboro, GA, Emanuel County, RNAV (GPS) RWY 13, Amdt 1

Swainsboro, GA, Emanuel County, RNAV (GPS) RWY 31, Amdt 1

Patterson, LA, Harry P Williams Memorial, NDB RWY 6, Amdt 11

Slidell, LA, Slidell, Takeoff Minimums and Obstacle DP, Orig

Norridgewock, ME, Central Maine Arpt of Norridgewock, Takeoff Minimums and Obstacle DP, Amdt 3

Cadillac, MI, Wexford County, NDB RWY 7, Amdt 2B, CANCELLED

Cadillac, MI, Wexford County, NDB RWY 25, Amdt 2, CANCELLED

Drummond Island, MI, Drummond Island, NDB RWY 26, Amdt 1, CANCELLED

Harrisonville, MO, Lawrence Smith Memorial, VOR/DME RWY 35, Orig-A, CANCELLED

Lincoln Park, NJ, Lincoln Park, NDB RWY 1, Amdt 3, CANCELLED

Clovis, NM, Clovis Muni, Takeoff Minimums and Obstacle DP, Orig

Lima, OH, Lima Allen County, VOR RWY 28, Amdt 16A, CANCELLED

Chickasha, OK, Chickasha Muni, Takeoff Minimums and Obstacle DP, Orig

Seven Springs Borough, PA, Seven Springs, Takeoff Minimums and Obstacle DP, Orig, CANCELLED

Seven Springs Borough, PA, Seven Springs, VOR OR GPS-A, Amdt 2A, CANCELLED

Wilkes-Barre/Scranton, PA, Wilkes-Barre/Scranton Intl, NDB-A, Amdt 17A

Panhandle, TX, Panhandle-Carson County, GPS RWY 35, Orig-A, CANCELLED

Panhandle, TX, Panhandle-Carson County, RNAV (GPS) RWY 17, Orig

Panhandle, TX, Panhandle-Carson County, RNAV (GPS) RWY 35, Orig

Panhandle, TX, Panhandle-Carson County, Takeoff Minimums and Obstacle DP, Orig

Panhandle, TX, Panhandle-Carson County, VOR RWY 17, Orig, CANCELLED

Panhandle, TX, Panhandle-Carson County, VOR-A, Orig

Blacksburg, VA, Virginia Tech/Montgomery Executive, Takeoff Minimums and Obstacle DP, Amdt 5

Dublin, VA, New River Valley, ILS OR LOC Y RWY 6, Orig

Dublin, VA, New River Valley, ILS OR LOC Z RWY 6, Amdt 5

Dublin, VA, New River Valley, RNAV (GPS) RWY 6, Orig

Dublin, VA, New River Valley, RNAV (GPS) RWY 24, Amdt 1

Dublin, VA, New River Valley, VOR-A, Amdt 9

Dublin, VA, New River Valley, VOR/DME RWY 6, Amdt 8

Yakima, WA, Yakima Air Terminal/Mcallister Field, COPTER NDB RWY 27, Amdt 2

Saratoga, WY, Shively Field, RNAV (GPS) RWY 5, Orig

[FR Doc. 2011-10018 Filed 5-3-11; 8:45 am]

BILLING CODE 4910-13-P